DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been removed from the Specially Designated Nationals and Blocked Person List (SDN List) and list of Foreign Sanctions Evaders (FSE List). Their property and interests in property are no longer blocked, and U.S. persons are no longer generally prohibited from engaging in transactions with them. Additionally, OFAC is publishing updates to the identifying information of one person currently included in the SDN List. All property and interests in property subject to U.S. jurisdiction of this person remain blocked, and U.S. persons are generally prohibited from engaging in transactions with them.

DATES: See SUPPLEMENTARY INFORMATION section for applicable date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List, Foreign Sanctions Evader List, and additional information concerning OFAC sanctions programs are available on OFAC's website (www.treasury.gov/ofac).

Notice of OFAC Actions

A. On May 11, 2021, OFAC determined that circumstances no longer warrant the inclusion of the following person on the SDN List and that their property and interests in property are no longer blocked under the relevant sanctions authority listed below.

Individual

1. JAMI JAMI (a.k.a. JAMA' JAMA'; a.k.a. JAMEA, Jamea Kamil; a.k.a. JAM'I JAM'I); DOB 16 Jun 1954; POB Jablah, Zama, Syria; Brigadier General (individual) [SYRIA].

Designated on August 15, 2006 pursuant to one or more of the criteria set forth in Executive Order 13338, “Blocking Property of Certain Persons and Prohibiting the Export of Certain Goods to Syria.”

B. On May 11, 2021, OFAC determined that circumstances no longer warrant the inclusion of the following persons on the SDN List and the FSE List and that their property and interests in property are no longer blocked under the relevant sanctions authorities listed below.

Individuals

1. HOLLEBRAND, Alexander (a.k.a. HOLLEBRAND, Sander); DOB 20 Dec 1954; POB Netherlands (individual) [SYRIA] [FSE-SY].

Designated on December 17, 2014 pursuant to one or more of the criteria set forth in Executive Order 13582, “Blocking Property of the Government of Syria and Prohibiting Certain Transactions With Respect to Syria,” and Executive Order 13608, “Prohibiting Certain Transactions With and Suspending Entry Into the United States of Foreign Sanctions Evaders With Respect to Iran and Syria.”

2. VAN MAZIJK, Paul; DOB 24 Jan 1958; Passport NSK7K05F4 (Netherlands) (individual) [SYRIA] [FSE-SY].

Designated on December 17, 2014 pursuant to one or more of the criteria set forth in Executive Order 13582, “Blocking Property of the Government of Syria and Prohibiting Certain Transactions With Respect to Syria,” and Executive Order 13608, “Prohibiting Certain Transactions With and Suspending Entry Into the United States of Foreign Sanctions Evaders With Respect to Iran and Syria.”

Entity

1. STAROIL B.V. (a.k.a. STAROIL S.A.), Wilhelminastraat 43 A, Haarlem 2011 VK, Netherlands; 30 A Rte de Chene, Geneva 1208, Switzerland; Registration ID 819860578 (Netherlands); V.A.T. Number NL 819860578B01 (Netherlands); Commercial Registry Number 34311024 (Netherlands) [SYRIA] [FSE-SY].

Designated on December 17, 2014 pursuant to one or more of the criteria set forth in Executive Order 13582, “Blocking Property of the Government of Syria and Prohibiting Certain Transactions With Respect to Syria,” and Executive Order 13608, “Prohibiting Certain Transactions With and Suspending Entry Into the United States of Foreign Sanctions Evaders With Respect to Iran and Syria.”

C. On May 11, 2021, OFAC updated the entry on the SDN List for the following person, whose property and interests in property subject to U.S. jurisdiction continue to be blocked under the relevant sanctions authority listed below.

Individual

1. PAVLENKO, Vladimir Nikolaevich (a.k.a. PAVLENKO, Volodymyr Mykolaiovych), Ukraine; Gender Male; Minister of State Security of the so-called Donetsk People's Republic (individual) [UKRAINE-EO13660] (Linked To: DONETSK PEOPLE'S REPUBLIC).

-to-

PAVLENKO, Vladimir Nikolaevich (Cyrillic: ПАВЛЕНКО, Владимир Николаевич) (a.k.a. PAVLENKO, Vladimir Viktorovich (Cyrillic: ПАВЛЕНКО, Владимир Викторович); a.k.a. PAVLENKO, Volodymyr Mykolaiovych; a.k.a. PAVLENKO, Volodymyr Viktorovich (Cyrillic: ПАВЛЕНКО, Володимир Вікторович)), Donetsk, Donetsk Oblast, Ukraine; DOB 14 Apr 1962; Gender Male; Minister of State Security of the so-called Donetsk People's Republic (individual) [UKRAINE-EO13660] (Linked To: DONETSK PEOPLE'S REPUBLIC).

Designated pursuant to section 1(a)(v) of Executive Order 13660 of March 6, 2014, “Blocking Property of Certain Persons Contributing to the Situation in Ukraine” (E.O. 13660) for having acted or purported to act for or on behalf of, directly or indirectly, the so-called “DONETSK PEOPLE'S REPUBLIC,” a person whose property and interests in property are blocked pursuant to to E.O. 13660.

Dated: May 11, 2021.
Bradley T. Smith,
Acting Director, Office of Foreign Assets Control, U.S. Department of the Treasury.

[FR Doc. 2021-10252 Filed 5-13-21; 8:45 am]

BILLING CODE 4810-AL-P